DEPARTMENT OF AGRICULTURE

Forest Service

Notice of Meeting

AGENCY: Notice of Resource Advisory Committee, Sundance, Wyoming, USDA, Forest Service.

ACTION: Notice of meeting.

SUMMARY: Pursuant to the authorities in the Federal Advisory Committee Act (Public Law 92-463) and under the Secure Rural Schools and Community Self-Determination Act of 2000 (Public Law 106-393) the Black Hills National Forests' Crook County Resource Advisory Committee will meet Monday, September 20, 2004 in Sundance, Wyoming for a business meeting. The meeting is open to the public.

SUPPLEMENTARY INFORMATION: The business meeting on September 20, begins at 6:30 p.m. at the U.S. Forest Service, Bearlodge Ranger District office, 121 South 21st Street, Sundance, Wyoming. Agenda topics will include: Updates on previously funded projects, discussion of business order for the coming year, and election of officers. A public forum will begin at 8:30 p.m. (m.t.).

FOR FURTHER INFORMATION CONTACT: Steve Kozel, Bearlodge District Ranger and Designated Federal Officer, at (307) 283-1361.

Dated: August 23, 2004.
Steve Kozel,
Bearlodge District Ranger.

[FR Doc. 04-19698 Filed 8-27-04; 8:45 am]

BILLING CODE 3410-11-M